NATIONAL SCIENCE FOUNDATION

Proposal Review Panel for Materials Research; Notice of Meeting

In accordance with the Federal Advisory Committee Act (Pub. L. 92-463 as amended), the National Science Foundation announces the following meeting:

Name: Proposal Review Panel for Materials Research (DMR) #1203.

Dates & Times: October 5, 2006; 7:45 a.m.-9 p.m., October 6, 2006; 8 a.m.-4:30 p.m.

Place: Stanford University, Palo Alto, CA.

Type of Meeting: Part-Open.

Contact Person: Dr. Thomas Rieker, Program Director, Materials Research Science and Engineering Centers Program, Division of Materials Research, Room 1065, National Science Foundation, 4201 Wilson Boulevard, Arlington, VA 22230, Telephone (703) 292-4914.

Purpose of Meeting: To provide advice and recommendations concerning further support of the Materials Research Science and Engineering Center.

Agenda

Thursday, October 5, 2006

7:45 a.m.-8:45 a.m. Closed—Executive session.

8:45 a.m.-4:15 p.m. Open—Review of the Materials Research Science and Engineering Center at Stanford University.

4:15 p.m.-5:30 p.m. Closed—Executive session.

5:30 p.m.-9 p.m. Open—Poster session and Dinner.

Friday, October 6, 2006

8 a.m.-8:45 a.m. Closed—Executive session.

8:45 a.m.-10:45 a.m. Open—Review of the Materials Research Science and Engineering Center at Stanford University.

10:45 a.m.-4:30 p.m. Closed—Executive Session, Draft and Review Report, brief the center director.

Reason for Closing: The work being reviewed may include information of a proprietary or confidential nature, including technical information; financial data, such as salaries and personal information concerning individuals associated with the proposals. These matters are exempt under 5 U.S.C. 522b(c), (4) and (6) of the Government in the Sunshine Act.

Dated: September 14, 2006.
Susanne Bolton,
Committee Management Officer.

[FR Doc. 06-7749 Filed 9-18-06; 8:45 am]

BILLING CODE 7555-01-M